Proclamation 10040 of May 21, 2020

Prayer for Peace, Memorial Day, 2020

By the President of the United States of America

A Proclamation

Since the first shots fired in the Revolutionary War, Americans have answered the call to duty and given their lives in service to our Nation and its sacred founding ideals. As we pay tribute to the lives and legacies of these patriots on Memorial Day, we also remember that they sacrificed to create a better, more peaceful future for our Nation and the world. We recommit to realizing that vision, honoring the service of so many who have placed love of country above all else.

As Americans, we will always defend our freedom and our liberty. When those principles are threatened, we will respond with uncompromising force and unparalleled vigor. Generation after generation, our country's finest have defended our Republic with honor and distinction. Memorials, monuments, and rows of white crosses and stars in places close to home like Arlington, Virginia and Gettysburg, Pennsylvania, as well as far-flung battlefields in places like Flanders Field in Belgium and Busan in Korea, will forever memorialize their heroic actions, standing as solemn testaments to the price of freedom. We will never take for granted the blood shed by these gallant men and women, as we are forever indebted to them and their families.

This year marks the 75th anniversary of the Allied victories over Nazi Germany and Imperial Japan in World War II. As we commemorate these seminal events, we also remember the tremendous cost at which these victories came. More than 400,000 souls of the Greatest Generation perished during this titanic struggle to liberate the world from tyranny. In his address to the Nation on Japan's surrender, President Truman's words remind us all of our enduring obligation to these patriots for their sacrifice: “It is our responsibility—ours the living—to see to it that this victory shall be a monument worthy of the dead who died to win it.” As we pause to recall the lives lost from the ranks of our Armed Forces, we remain eternally grateful for the path they paved toward a world made freer from oppression.

Our fallen warriors gave their last breath for our country and our freedom. Today, let us pause in quiet reverence to reflect on the incredible dedication of these valiant men and women and their families, invoking divine Providence as we continue pursuing our noble goal of lasting peace for the world.

In honor and recognition of all of our fallen heroes, the Congress, by a joint resolution approved May 11, 1950, as amended (36 U.S.C. 116), has requested the President issue a proclamation calling on the people of the United States to observe each Memorial Day as a day of prayer for permanent peace and designating a period on that day when the people of the United States might unite in prayer. The Congress, by Public Law 106-579, has also designated 3:00 p.m. local time on that day as a time for all Americans to observe, in their own way, the National Moment of Remembrance.

NOW, THEREFORE, I, DONALD J. TRUMP, President of the United States of America, do hereby proclaim Memorial Day, May 25, 2020, as a day of prayer for permanent peace, and I designate the hour beginning in each locality at 11:00 a.m. of that day as a time when people might unite in prayer.

I further ask all Americans to observe the National Moment of Remembrance beginning at 3:00 p.m. local time on Memorial Day.

I also request the Governors of the United States and its Territories, and the appropriate officials of all units of government, to direct that, on Memorial Day, the flag be flown at half-staff until noon on all buildings, grounds, and naval vessels throughout the United States and in all areas under its jurisdiction and control. I also request the people of the United States to display the flag at half-staff from their homes for the customary forenoon period.

IN WITNESS WHEREOF, I have hereunto set my hand this twenty-first day of May, in the year of our Lord two thousand twenty, and of the Independence of the United States of America the two hundred and forty-fourth.

[FR Doc. 2020-11542

Filed 5-26-20; 11:15 am]

Billing code 3295-F0-P